NUCLEAR REGULATORY COMMISSION

10 CFR Parts 11 and 25

RIN 3150-AH30

Assessment of Access Authorization Fees

Correction

In rule document 03-27804 beginning on page 62509 in the issue of Wednesday, November 5, 2003, make the following corrections:

§11.15 [Corrected]

1. On pages 62511 and 62512, in §11.15(e)(2), in the table, the heading “The NRC application fee for an access authorization type * * *” should read “The NRC application fee for an access authorization of type * * *”.

Appendix A to Part 25 [Corrected]

2. On pages 62512 and 62513, in Appendix A to Part 25, in the table, the heading “The NRC application fee for an access authorization type * * *” should read “The NRC application fee for an access authorization of type * * *”.

[FR Doc. C3-27804 Filed 11-20-03; 8:45 am]

BILLING CODE 1505-01-D